DEPARTMENT OF ENERGY

Federal Energy Regulatory Commission

Combined Notice of Filings #1

July 16, 2008.

Take notice that the Commission received the following electric corporate filings:

Docket Numbers: EC08-110-000.

Applicants: Baja California Power, Inc.; AIG Highstar Capital ll Ocean Star The N; AIG Highstar Capital ll Prism Fund Ocean; AIG Investor Ocean Star The Netherlands; Uluru Finance Limited; GMR Infrastructure (Malta) Limited.

Description: Baja California Power, Inc. submits an application for order authorizing Indirect Disposition of Jurisdictional Facilities under section 203 of the Federal Power Act and Request for Waivers and Expedited Action.

Filed Date: 07/08/2008.

Accession Number: 20080710-0096.

Comment Date: 5 p.m. Eastern Time on Tuesday, July 29, 2008.

Take notice that the Commission received the following exempt wholesale generator filings:

Docket Numbers: EG08-78-000.

Applicants: Shiloh Wind Project 2, LLC.

Description: Shiloh Wind Project 2 LLC submits a Notice of Self-Certification of Exempt Wholesale Generator Status.

Filed Date: 07/11/2008.

Accession Number: 20080715-0019.

Comment Date: 5 p.m. Eastern Time on Friday, August 1, 2008.

Take notice that the Commission received the following electric rate filings:

Docket Numbers: ER94-1384-034; ER03-1315-006; ER01-457-006; ER02-1485-008; ER03-1109-007; ER03-1108-007; ER00-1803-005; ER99-2329-006; ER04-733-004;

Applicants: Morgan Stanley Capital Group, Inc.; MS Retail Development Corp; Naniwa Energy LLC; Power Contract Finance, L.L.C.; Power Contract Financing II, Inc.; Power Contract Financing II, L.L.C.; South Eastern Generating Corporation; South Eastern Electric Development Corp; Utility Contract Funding II, LLC.

Description: Morgan Stanley Capital Group, Inc. et al. supplements their 6/30/08 updated market power analysis required by Order 697 and 697-A with a letter of concurrence from Deseret Generation & Transmission Coop.

Filed Date: 07/09/2008

Accession Number: 20080710-0131

Comment Date: 5 p.m. Eastern Time on Wednesday, July 30, 2008.

Docket Numbers: ER99-1293-010.

Applicants: Monmouth Energy, Inc.

Description: Montauk Energy, Inc. submits an errata to the Updated Market Power Analysis filed on 7/7/08 to revise Attachment B and Attachment C to describe a change in name of one of its upstream owners, etc.

Filed Date: 07/08/2008.

Accession Number: 20080709-0238.

Comment Date: 5 p.m. Eastern Time on Tuesday, July 29, 2008.

Docket Numbers: ER00-3251-016; ER98-1734-015; ER01-1919-012.

Applicants: Exelon Generating Company, LLC; Commonwealth Edison Company; Exelon Energy Company.

Description: Exelon ASM Applicants submits revised tariff sheets under their respective market-based rate authorizations.

Filed Date: 07/09/2008.

Accession Number: 20080711-0022.

Comment Date: 5 p.m. Eastern Time on Wednesday, July 30, 2008.

Docket Numbers: ER00-2173-008.

Applicants: Northern Indiana Public Service Company.

Description: Northern Indiana Public Service Company submits supplement to its notice of change in status filed 6/30/08 pursuant to the requirements of Order 652.

Filed Date: 07/09/2008.

Accession Number: 20080711-0023.

Comment Date: 5 p.m. Eastern Time on Wednesday, July 30, 2008.

Docket Numbers: ER00-3080-003.

Applicants: Otter Tail Power Company.

Description: Otter Tail Power Co. submits revisions to its FERC Electric Tariffs to comply with FERC's requirements.

Filed Date: 07/10/2008.

Accession Number: 20080711-0123.

Comment Date: 5 p.m. Eastern Time on Thursday, July 31, 2008.

Docket Numbers: ER01-205-028; ER98-4590-024; ER98-2640-026; ER99-1610-032.

Applicants: Xcel Energy Services, Inc.; Northern States Power Company, Public Service Company of Colorado; Southwestern Public Service Company.

Description: Xcel Energy Services submits Market-Based Rate Tariff Compliance Filing and on 7/10/08 submits a clarification to its 7/9/08 filing.

Filed Date: 07/09/2008; 07/10/2008.

Accession Number: 20080711-0033; 20080711-0032.

Comment Date: 5 p.m. Eastern Time on Wednesday, July 30, 2008.

Docket Numbers: ER01-1403-007; ER06-1443-003; ER01-2968-008.

Applicants: FirstEnergy Operating Companies; Pennsylvania Power Company, FirstEnergy Solutions Corp.

Description: FirstEnergy Companies submit revised tariff sheets providing for sale of certain ancillary services into markets administered by the Midwest Independent Transmission System Operator, Inc. etc.

Filed Date: 07/10/2008.

Accession Number: 20080714-0004.

Comment Date: 5 p.m. Eastern Time on Thursday, July 31, 2008.

Docket Numbers: ER03-769-003.

Applicants: American PowerNet Management, LP.

Description: American PowerNet Management, LP submits petition for determination by the Commission that it qualifies as a Category 1 Seller and is exempt from the requirement to submit an updated market power analysis every three years.

Filed Date: 07/10/2008.

Accession Number: 20080714-0003.

Comment Date: 5 p.m. Eastern Time on Thursday, July 31, 2008.

Docket Numbers: ER08-38-004.

Applicants: Northern Renewable Energy (USA) Ltd.

Description: Northern Renewable Energy (USA) Ltd. submits revised market-based rate tariff sheets in compliance with Order 697 and 697-A.

Filed Date: 06/30/2008.

Accession Number: 20080702-0204.

Comment Date: 5 p.m. Eastern Time on Monday, July 21, 2008.

Docket Numbers: ER08-808-001.

Applicants: Westar Energy, Inc.

Description: Westar Energy, Inc. submits the Alternate Pro Forma Sheet 30 in compliance with FERC's 6/6/08 Order.

Filed Date: 07/08/2008.

Accession Number: 20080710-0100.

Comment Date: 5 p.m. Eastern Time on Tuesday, July 29, 2008.

Docket Numbers: ER08-951-001.

Applicants: PSEG Energy Resources & Trade, LLC.

Description: PSEG Energy Resources and Trade, LLC submits an amendment to its 5/13/08 filing of a new rate schedule.

Filed Date: 07/08/2008.

Accession Number: 20080710-0099.

Comment Date: 5 p.m. Eastern Time on Tuesday, July 29, 2008.

Docket Numbers: ER08-1084-001.

Applicants: Evergreen Community Power, LLC.

Description: Evergreen Community Power, LLC submits an amendment to the Petition for Acceptance of Initial Rate Schedule, Waivers and Blanket Authority.

Filed Date: 07/10/2008.

Accession Number: 20080711-0124.

Comment Date: 5 p.m. Eastern Time on Thursday, July 31, 2008.

Docket Numbers: ER08-1192-001.

Applicants: El Paso Electric Company.

Description: Public Service Company of New Mexico submits Certificate of Concurrence re the filing by El Paso Electric Company of the Facilities Modification and Construction Agreement for Holloman, Largo and Amrad Station Upgrades.

Filed Date: 07/10/2008.

Accession Number: 20080714-0001.

Comment Date: 5 p.m. Eastern Time on Thursday, July 31, 2008.

Docket Numbers: ER08-1211-000.

Applicants: Green Energy Partners, LLC.

Description: Green Energy Partners, LLC submits a supplement to its Petition for Acceptance of Electric Tariff, Waivers of Blanket Authorization for FERC Electric Tariff, Original Volume 1.

Filed Date: 07/07/2008.

Accession Number: 20080707-0304.

Comment Date: 5 p.m. Eastern Time on Monday, July 28, 2008.

Docket Numbers: ER08-1232-000.

Applicants: Sconza Candy Company.

Description: Sconza Candy Company submits the Petition for Acceptance of FERC Electric Tariff, Original Volume 1 etc.

Filed Date: 07/10/2008.

Accession Number: 20080711-0087.

Comment Date: 5 p.m. Eastern Time on Thursday, July 31, 2008.

Docket Numbers: ER08-1234-000.

Applicants: American Electric Power Service Corporation.

Description: AEP Texas Central Company submits executed generation interconnection agreement dated 6/18/08 between AEP Texas Gas Central and two electric generating companies, Nueces Bay WLE, LP and Barney Davis etc.

Filed Date: 07/08/2008.

Accession Number: 20080709-0229.

Comment Date: 5 p.m. Eastern Time on Tuesday, July 29, 2008.

Docket Numbers: ER08-1237-000.

Applicants: Shiloh Wind Project 2, LLC.

Description: Shiloh Wind Project 2, LLC submits a Petition for Acceptance of Initial Rate Schedule, Waivers and Blanket Authority.

Filed Date: 07/11/2008.

Accession Number: 20080714-0292.

Comment Date: 5 p.m. Eastern Time on Friday, August 1, 2008.

Docket Numbers: ER08-1239-000.

Applicants: Pocono Energy Services, LLC.

Description: Pocono Energy Services, LLC submits a notice of cancellation.

Filed Date: 07/08/2008.

Accession Number: 20080709-0232.

Comment Date: 5 p.m. Eastern Time on Tuesday, July 29, 2008.

Docket Numbers: ER08-1241-000.

Applicants: Fitchburg Gas and Electric Light Company.

Description: Fitchburg Gas and Electric Light Company's Annual Informational Filing Under Formula Rates.

Filed Date: 07/09/2008.

Accession Number: 20080709-5077.

Comment Date: 5 p.m. Eastern Time on Wednesday, July 30, 2008.

Docket Numbers: ER08-1243-000.

Applicants: New York Independent System Operator, Inc.

Description: Request for limited tariff wavier re New York Independent System Operator, Inc.

Filed Date: 07/09/2008.

Accession Number: 20080711-0025.

Comment Date: 5 p.m. Eastern Time on Wednesday, July 30, 2008.

Docket Numbers: ER08-1244-000.

Applicants: Midwest Independent Transmission System.

Description: Midwest Independent Transmission System Operator, Inc. submits the entire proposal containing revisions and amendments made to their Open Access Transmission and Energy Markets Tariff etc.

Filed Date: 07/09/2008.

Accession Number: 20080711-0101.

Comment Date: 5 p.m. Eastern Time on Wednesday, July 30, 2008.

Docket Numbers: ER08-1245-000.

Applicants: Southern Company Services, Inc.

Description: Southern Companies submits a Notice of Cancellation of the Firm Point-to-Point Transmission Service Agreement with Calpine Energy Services, LP etc.

Filed Date: 07/10/2008.

Accession Number: 20080711-0126.

Comment Date: 5 p.m. Eastern Time on Thursday, July 31, 2008.

Docket Numbers: ER08-1246-000.

Applicants: PJM Interconnection, LLC.

Description: PJM Interconnection, LLC submits a notice of cancellation for an interconnection service agreement with Tenaska Virginia II Partners, LP et al.

Filed Date: 07/10/2008.

Accession Number: 20080711-0128.

Comment Date: 5 p.m. Eastern Time on Thursday, July 31, 2008.

Docket Numbers: ER08-1247-000.

Applicants: Black Hills Power, Inc.

Description: Black Hills Power, Inc. et al. submits an unexecuted Generation Dispatch and Energy Management Agreement.

Filed Date: 07/10/2008.

Accession Number: 20080711-0127.

Comment Date: 5 p.m. Eastern Time on Thursday, July 31, 2008.

Docket Numbers: ER08-1248-000.

Applicants: South Carolina Electric & Gas Company.

Description: South Carolina Electric & Gas Co. submits a revision to the list of customers receiving point-to-point transmission service.

Filed Date: 07/07/2008.

Accession Number: 20080711-0129.

Comment Date: 5 p.m. Eastern Time on Monday, July 28, 2008.

Docket Numbers: ER08-1249-000.

Applicants: El Paso Electric Company.

Description: El Paso Electric Co. submits the Line Extension Agreement.

Filed Date: 07/10/2008.

Accession Number: 20080711-0122.

Comment Date: 5 p.m. Eastern Time on Thursday, July 24, 2008.

Docket Numbers: ER08-1251-000.

Applicants: Hershey Chocolate and Confectionary Corp.

Description: Hershey Chocolate & Confectionary Corporation submits a notice of cancellation of FERC Electric Tariff, Original Volume 1.

Filed Date: 07/11/2008.

Accession Number: 20080715-0024.

Comment Date: 5 p.m. Eastern Time on Friday, August 1, 2008.

Docket Numbers: ER08-1252-000.

Applicants: Midwest Independent Transmission System.

Description: Midwest Independent Transmission System Operator Inc. submits proposed revisions to their Open Access Transmission, Energy and Operating Reserve Markets Tariff.

Filed Date: 07/11/2008.

Accession Number: 20080715-0023.

Comment Date: 5 p.m. Eastern Time on Friday, August 1, 2008.

Docket Numbers: ER08-1253-000.

Applicants: Wisconsin Electric Power Company.

Description: Wisconsin Electric Power Company submits their Market Rate Power Sales Tariff with an effective date of 9/9/08.

Filed Date: 07/11/2008.

Accession Number: 20080715-0022.

Comment Date: 5 p.m. Eastern Time on Friday, August 1, 2008.

Docket Numbers: ER08-1254-000.

Applicants: Midwest Independent Transmission System.

Description: Midwest Independent Transmission System Operator Inc et al. submits revisions and amendments made to the ISO Transmission Owners Agreement in connection with the filing of the Amended BA Agreement.

Filed Date: 07/11/2008.

Accession Number: 20080715-0021.

Comment Date: 5 p.m. Eastern Time on Friday, August 1, 2008.

Docket Numbers: ER08-1255-000.

Applicants: Oak Creek Wind Power, LLC.

Description: Petition of Oak Creek Wind Power, LLC for Order Accepting Market-Based Rate Tariff, Waivers and Blanket Authority etc.

Filed Date: 07/11/2008.

Accession Number: 20080714-0293.

Comment Date: 5 p.m. Eastern Time on Friday, August 1, 2008.

Docket Numbers: ER08-1256-000.

Applicants: Midwest Independent Transmission System.

Description: Midwest Independent Transmission System Operator Inc. submits proposed revisions to their Open Access. Transmission, Energy and Operating Reserve Markets Tariff.

Filed Date: 07/11/2008.

Accession Number: 20080715-0020.

Comment Date: 5 p.m. Eastern Time on Friday, August 1, 2008.

Docket Numbers: ER08-1257-000.

Applicants: Midwest Independent Transmission System.

Description: Midwest Independent Transmission System Operator, Inc. submits revisions and amendments to its Open Access Transmission etc.

Filed Date: 07/11/2008.

Accession Number: 20080714-0294.

Comment Date: 5 p.m. Eastern Time on Friday, August 1, 2008.

Take notice that the Commission received the following open access transmission tariff filings:

Docket Numbers: OA07-31-003; OA07-94-001.

Applicants: Aquila, Inc.

Description: Aquila, Inc.'s Order No. 890 Compliance Filing.

Filed Date: 07/10/2008.

Accession Number: 20080710-5031.

Comment Date: 5 p.m. Eastern Time on Thursday, July 31, 2008.

Docket Numbers: OA08-7-002.

Applicants: American Electric Power Service Corporation.

Description: AEP Operating Companies submits Third Revised Sheet 166 et al. to FERC Electric Tariff, 3rd Revised Volume 6 reflecting changes directed by the FERC's 3/10/08 Order to its Open Access Transmission Tariff etc.

Filed Date: 07/10/2008.

Accession Number: 20080714-0002.

Comment Date: 5 p.m. Eastern Time on Thursday, July 31, 2008.

Docket Numbers: OA08-119-000.

Applicants: Electric Energy, Inc.

Description: Electric Energy, Inc submits revisions to their OATT, First Revised Volume 1.

Filed Date: 07/10/2008.

Accession Number: 20080714-0284.

Comment Date: 5 p.m. Eastern Time on Thursday, July 31, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-16923 Filed 7-23-08; 8:45 am]

BILLING CODE 6717-01-P